DEPARTMENT OF THE INTERIOR

Fish and Wildlife Service

[FWS-R8-R-2010-N104; 81640-1265-0000-S3]

San Pablo Bay National Wildlife Refuge, Sonoma, Napa, and Solano Counties, CA

AGENCY: Fish and Wildlife Service, Interior.

ACTION: Notice of availability; request for comments: draft comprehensive conservation plan/environmental assessment.

SUMMARY: We, the U.S. Fish and Wildlife Service (Service), announce the availability of a Draft Comprehensive Conservation Plan/Environmental Assessment (CCP/EA) for the San Pablo Bay National Wildlife Refuge for public review and comment. The CCP/EA, prepared under the National Wildlife Refuge System Improvement Act of 1997, and in accordance with the National Environmental Policy Act of 1969, describes how the Service will manage the Refuge for the next 15 years. Draft compatibility determinations for several existing and proposed public uses are also available for review and public comment with the Draft CCP/EA.

DATES: Written comments must be received at the address below on or before August 11, 2010.

ADDRESSES: For more information on obtaining documents and submitting comments, see “Review and Comment” under SUPPLEMENTARY INFORMATION.

FOR FURTHER INFORMATION CONTACT: Winnie Chan, Refuge Planner, 9500 Thornton Avenue, Newark, CA 94560, phone (510) 792-0222.

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education, and interpretation.

We initiated the CCP/EA for the San Pablo Bay National Wildlife Refuge in July 2006. At that time and throughout the process, we requested, considered, and incorporated public scoping comments in numerous ways. Our public outreach has included a Federal Register notice of intent published on July 26, 2006 (71 FR 42413), one stakeholder meeting, one public meeting, planning updates, and a CCP Web page. We received approximately six scoping comments during the 45-day public comment period.

Background

The Refuge lies on the northernmost end of the San Francisco Bay Estuary and was formally established in 1970, but lands were not acquired until 1974. The Service owns 1,990 acres and manages 11,200 leased acres within the 23,700-acre acquisition boundary. The Refuge provides large expanses of tidal marsh that protects endangered species, and conserves migratory birds and other wildlife.

Alternatives

The Draft CCP/EA identifies and evaluates three alternatives for managing San Pablo Bay National Wildlife Refuge for the next 15 years. The alternative that appears to best meet the Refuge purposes is identified as the preferred alternative. The preferred alternative is identified based on the analysis presented in the Draft CCP/EA, which may be modified following the completion of the public comment period based on comments received from other agencies, Tribal governments, nongovernmental organizations, or individuals.

Under Alternative A, the no action alternative, we would continue to manage the Refuge as we have in the recent past. Existing tidal restoration activities would continue. The existing hunting, fishing, wildlife observation, photography, environmental education, and interpretation opportunities would remain unchanged.

Under Alternative B, the Service would develop an inventory and monitoring program; expand tidal restoration and enhancement activities for the benefit of migratory birds, endangered species, and other native wildlife; improve and expand visitor services by developing new public access locations; develop shoreline fishing locations; and provide some additional environmental education programs.

Under Alternative C (preferred alternative), the Service would incorporate those developments outlined in Alternative B, but would also emphasize wildlife management by studying population health and developing population goals for wildlife; provide greater interpretive opportunities; and substantially expand the environmental education program.

Review and Comment

The Draft CCP/EA will be available for viewing and downloading online at http://www.fws.gov/cno/refuges/planning/ccp.cfm. Copies of the Draft CCP/EA may also be obtained by writing to the SF Bay National Wildlife Refuge Complex, Attn: Winnie Chan, 9500 Thornton Avenue, Newark, CA 94560.

Copies of the Draft CCP/EA may also be viewed at the San Francisco Bay National Wildlife Refuge Complex, 1 Marshlands Road, Fremont, CA 94536; San Pablo Bay National Wildlife Refuge in Petaluma, CA (call (707) 769-4200 for directions); and John F. Kennedy Library, 505 Santa Clara, Vallejo, CA 94590.

Comments on the Draft CCP/EA should be addressed to: Winnie Chan, SF Bay NWRC, 9500 Thornton Avenue, Newark, CA 94560. Comments may also be faxed to (510) 792-5828 or sent via e-mail to sfbaynwrc@fws.gov.

At the end of the review and comment period for this Draft CCP/EA, the Service will analyze comments and address them in the Final CCP/EA. Before including your address, phone number, e-mail address, or other personal identifying information in your comment, you should be aware that your entire comment—including your personal identifying information—may be made publicly available at any time. While you can ask us in your comment to withhold your personal identifying information from public review, we cannot guarantee that we will be able to do so.

Dated: July 6, 2010.
Ken McDermond,
Acting Regional Director, Pacific Southwest Region.

[FR Doc. 2010-16867 Filed 7-9-10; 8:45 am]

BILLING CODE 4310-55-P